NUCLEAR REGULATORY COMMISSION

[Docket No. NRC-2013-0085]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection May 14, 2013.

1. Type of submission, new, revision, or extension: Revision.

2. The title of the information collection: 10 CFR Part 50, “Domestic Licensing of Production and Utilization Facilities.”

3. Current OMB approval number: 3150-0011.

4. The form number if applicable: Not applicable.

5. How often the collection is required: As necessary in order for the NRC to meet its responsibilities to conduct a detailed review of applications for licenses and amendments thereto to construct and operate nuclear power plants, preliminary or final design approvals, design certifications, research and test facilities, reprocessing plants and other utilization and production facilities, licensed pursuant to the Atomic Energy Act of 1954, as amended (the Act) and to monitor their activities. Reports are submitted daily, monthly, quarterly, annually, semi-annually, and on occasion.

6. Who will be required or asked to report: Licensees and applicants for nuclear power plants and research and test facilities.

7. An estimate of the number of annual responses: 45,202.

8. The estimated number of annual respondents: 151.

9. An estimate of the total number of hours needed annually to complete the requirement or request: 4.38M hours; 1.64M hours reporting (an average of 36.5 hrs/response) + 2.73M hours recordkeeping (an average of 18.1K hrs/recordkeeper).

10. Abstract: Part 50 of Title 10 of the Code of Federal Regulations (10 CFR), “Domestic Licensing of Production and Utilization Facilities,” specifies technical information and data to be provided to the NRC or maintained by applicants and licensees so that the NRC may take determinations necessary to protect the health and safety of the public, in accordance with the Act. The reporting and recordkeeping requirements contained in 10 CFR part 50 are mandatory for the affected licensees and applicants. The NRC has removed information collections associated with the generic communications program from the part 50 clearance. The NRC intends to obtain a separate OMB clearance for generic communications. Public comment was solicited on the generic communications program on July 30, 2014 (79 FR 44208).

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by November 5, 2014. Comments received after this date will be considered if it is practical to do so, but assurance of consideration cannot be given to comments received after this date.

Danielle Jones, Desk Officer,

Office of Information and Regulatory Affairs (3150-0011),

NEOB-10202,

Office of Management and Budget,

Washington, DC 20503.

Comments can also be emailed to Danielle_Y_Jones@omb.eop.gov or submitted by telephone at 202-395-1741.

The NRC Clearance Officer is Tremaine Donnell, telephone: 301-415-6258.

Dated at Rockville, Maryland, this 30th day of September, 2014.
For the Nuclear Regulatory Commission.
Tremaine Donnell,
NRC Clearance Officer, Office of Information Services.

[FR Doc. 2014-23675 Filed 10-3-14; 8:45 am]

BILLING CODE 7590-01-P